ENVIRONMENTAL PROTECTION AGENCY

[R08-OAR-2005-UT-0005; FRL-7916-9]

Adequacy Determination for the Ogden City Area Carbon Monoxide Maintenance State Implementation Plan for Transportation Conformity Purposes; State of Utah

AGENCY: Environmental Protection Agency (EPA).

ACTION: Notice of adequacy.

SUMMARY: In this document, EPA is notifying the public that we have found that the motor vehicle emissions budget for 2021 in the Ogden, Utah Carbon Monoxide Maintenance Plan, that was submitted by Utah Governor Olene S. Walker on November 29, 2004, is adequate for transportation conformity purposes. 40 CFR 93.118(e)(2) requires that EPA declare an implementation plan submission's motor vehicle emissions budget adequate for conformity purposes prior to the budget being used to satisfy the conformity requirements of 40 CFR part 93. As a result of our finding, the Wasatch Front Regional Council of Governments, the Utah Department of Transportation and the U.S. Department of Transportation are required to use the motor vehicle emissions budget from this submitted maintenance plan for future transportation conformity determinations.

DATES: This finding is effective June 10, 2005.

FOR FURTHER INFORMATION CONTACT: Jeffrey Kimes, Air & Radiation Program (8P-AR), United States Environmental Protection Agency, Region 8, 999 18th Street, Suite 300, Denver, Colorado 80202-2466, (303) 312-6445, kimes.jeffrey@epa.gov.

The letter documenting our finding is available at EPA's conformity Web site: http://www.epa.gov/otaq/transp/conform/adequacy.htm.

SUPPLEMENTARY INFORMATION: Throughout this document “we”, “us”, or “our” are used to mean EPA.

This action is simply an announcement of a finding that we have already made. We sent a letter to the Utah Division of Air Quality on May 2, 2005, stating that the motor vehicle emission budget in the submitted Ogden, Utah Carbon Monoxide Maintenance Plan is adequate. This finding has also been announced on our conformity Web site at http://www.epa.gov/otaq/transp/conform/adequacy.htm.

Transportation conformity is required by section 176(c) of the Clean Air Act. Our conformity rule requires that transportation plans, programs, and projects conform to SIPs and establishes the criteria and procedures for determining whether or not they demonstrate conformity. Conformity to a SIP means that transportation activities will not produce new air quality violations, worsen existing violations, or delay timely attainment of the national ambient air quality standards.

The criteria by which we determine whether a SIP's motor vehicle emission budgets are adequate for conformity purposes are outlined in 40 CFR 93.118(e)(4). Please note that an adequacy review is separate from our completeness review, and it also should not be used to prejudge our ultimate approval of the SIP. Even if we find a budget adequate, the SIP could later be disapproved, and vice versa.

The process for determining the adequacy of a transportation conformity budget is described at 40 CFR 93.118(f).

For the reader's ease, we have excerpted the motor vehicle emission budget from the Ogden, Utah Carbon Monoxide Maintenance Plan and it is as follows: Motor vehicle emissions budget for the year 2021 is 73.02 tons per day of CO. 40 CFR 93.118(e)(1) requires that previously approved budgets for years other than 2021 must still be used in any conformity determination until the maintenance plan is fully approved by EPA.

Authority: 42 U.S.C. 7401 et seq.

Dated: May 10, 2005.
Robert E. Roberts,
Regional Administrator, Region VIII.

[FR Doc. 05-10496 Filed 5-25-05; 8:45 am]

BILLING CODE 6560-50-P